GENERAL SERVICES ADMINISTRATION

[NOTICE PBS-2019-02; DOCKET NO. 2019-002; SEQUENCE NO. 2]

Notice of Availability and Announcement of Public Meeting for the Final Supplemental Environmental Impact Statement for the San Ysidro Land Port of Entry Improvements Project, San Ysidro, California

AGENCY: Public Buildings Service (PBS), General Services Administration (GSA).

ACTION: Notice of availability; announcement of public meeting.

SUMMARY: This notice announces the availability of the Final Supplemental Environmental Impact Statement (SEIS), which examines the potential impacts of a proposal by the GSA, to reconfigure and expand the existing San Ysidro Land Port of Entry (LPOE) located at the United States (U.S.)-Mexico border in the City of San Diego community of San Ysidro, in San Diego County, California. The Final SEIS describes the reason the project is being proposed; the alternatives considered; the potential impacts of each of the alternatives on the existing environment; and the proposed avoidance, minimization, and/or mitigation measures related to those alternatives. As the lead agency for this undertaking, GSA is acting on behalf of its major tenant at this facility, the Department of Homeland Security's Customs and Border Protection.

DATES: A public meeting for the Final SEIS will be held on Wednesday, February 20th, 2019, from 4:00 p.m. to 7:00 p.m., Pacific Standard Time. Interested parties are encouraged to attend. The availability period for the Final SEIS ends on Monday, March 11th, 2019.

ADDRESSES: The public meeting will be held at The Front, 147 West San Ysidro Boulevard, San Diego, CA, 92173. Further information, including an electronic copy of the Final SEIS, may be found online on the following website: https://www.gsa.gov/about-us/regions/welcome-to-the-pacific-rim-region-9/land-ports-of-entry/san-ysidro-land-port-of-entry. Questions or comments concerning the Final SEIS should be directed to: Osmahn Kadri, Regional Environmental Quality Advisor/NEPA Project Manager, 50 United Nations Plaza, 3345, Mailbox #9, San Francisco, CA, 94102, or via email to osmahn.kadri@gsa.gov.

FOR FURTHER INFORMATION CONTACT: Osmahn Kadri, Regional Environmental Quality Advisor/NEPA Project Manager, GSA, at (415) 522-3617. Please also call this number if special assistance is needed to attend and participate in the public meeting.

SUPPLEMENTARY INFORMATION:

Background

The SEIS for the San Ysidro LPOE Improvements Project is intended to supplement the Final Environmental Impact Statement (EIS) that was adopted for the San Ysidro LPOE Improvements Project in August 2009 (2009 Final EIS). In September 2009, GSA prepared a Record of the Decision (ROD) that approved the Preferred Alternative (2009 Approved Project) that was identified in the 2009 Final EIS. In May 2014, GSA adopted a Final SEIS that evaluated changed circumstances and proposed modifications to the 2009 Approved Project that identified a Preferred Alternative that was approved by GSA through a ROD in August 2014 (2014 Approved Supplemental Project).

In August 2015, GSA prepared a Revision to the 2014 Final SEIS to document minor design changes and provide specific information that was not available or known at the time when the 2009 Final EIS or 2014 Final SEIS was prepared (2015 Revision). The 2009 Approved Project, 2014 Approved Supplemental Project, and 2015 Revision are collectively referred to as the “Approved Project.”

This SEIS documents and evaluates changed circumstances and proposed modifications to the Approved Project since adoption of the 2009 Final EIS and 2014 Final SEIS and preparation of the 2015 Revision. The Approved Project with proposed modifications is referred to as the “Revised Project.”

The Approved Project and Revised Project entail the reconfiguration and expansion of the San Ysidro LPOE in three independent phases to improve overall capacity and operational efficiency at the LPOE. The San Ysidro LPOE is located along Interstate 5 (I-5) at the U.S.-Mexico border in the San Ysidro community of the City of San Diego, California.

GSA is proposing the following changes to the Approved Project: A redesign of the proposed pedestrian plaza on the east side of the LPOE. The pedestrian plaza would be expanded to the north to include an additional parcel adjacent to the LPOE. GSA proposes acquisition of the adjacent 0.24-acre parcel to the north that contains two commercial buildings and incorporation of this parcel (Additional Land Area) into the pedestrian plaza. In addition to these proposed changes to the Approved Project, the Revised Project also includes the other components of the Approved Project that have not changed.

The changed circumstances associated with the Approved Project include new information regarding the condition of existing structures adjacent to the LPOE that affect the ability of GSA to implement the Approved Project. The Approved Project anticipated that construction of the pedestrian plaza would require demolition of the existing Milo Building within the LPOE. During final design, it was discovered that two existing buildings adjacent to the Milo Building on the Additional Land Area would likely collapse when the Milo Building is removed. The condition of these adjacent buildings was not known at the time the 2009 Final EIS or 2014 Final SEIS were prepared and this changed circumstance has bearing on the ability to implement the Approved Project.

Due to the changed circumstances and changes to the Approved Project, GSA made the decision to prepare an SEIS for the Revised Project.

The purpose of the Revised Project is the same as the Approved Project that was identified in the 2009 Final EIS and 2014 Final SEIS. The purpose of the Revised Project is to improve operational efficiency, security, and safety for cross-border travelers and federal agencies at the San Ysidro LPOE.

The Draft SEIS analyzed two alternatives of the Revised Project, as well as the No Action Alternative. Both of the Action Alternatives include the proposed modifications described above, as well as the other improvements originally proposed as part of the Approved Project. Alternative 1 would include demolition of the two existing buildings within the Additional Land Area that would be added to the LPOE and incorporated into the pedestrian plaza. Alternative 2 would involve renovation/adaptive reuse of the existing buildings on the Additional Land Area that would be added to the LPOE and incorporated into the design of the pedestrian plaza and LPOE. Under the No Action Alternative, GSA would continue to implement the Approved Project except that the Milo Building would not be demolished.

The Draft SEIS was made publicly available on September 24, 2018 for a 45-day period. The Notice of Availability for the Draft SEIS was published in the Federal Register on September 24, 2018. A public meeting took place on October 17, 2018 in the San Ysidro community. In preparing this Final SEIS, GSA considered public comments received regarding the Draft SEIS during the public review period.

After careful consideration of the environmental analysis and associated environmental effects of the action alternatives and No Action Alternative, the needs of the federal agencies operating at the San Ysidro LPOE, and comments received on the Draft SEIS, GSA identified Alternative 1 as the Preferred Alternative.

This Alternative would best satisfy the Purpose and Need of the Revised Project and would result in greater benefits to cross-border circulation and mobility within the project area compared to Alternative 2.

Dated: February 4, 2019.
Matthew Jear,
Director, Portfolio Management Division, Pacific Rim Region, Public Buildings Service.

[FR Doc. 2019-01690 Filed 2-7-19; 8:45 am]

BILLING CODE 6820-YF-P